DEPARTMENT OF STATE

[Public Notice No. (4553)]

Determination Under Presidential Proclamation

I hereby make the determination provided for in Section 5 of the Presidential Proclamation No. 7060, of December 12, 1997, that the suspension of entry into the United States as immigrants or nonimmigrants of senior officials of the National Union for the Total Independence of Angola (UNITA) and adult dependents of their immediate families is no longer necessary. Restrictions imposed in said proclamation pursuant to Section 212(f) of the Immigration and Nationality Act of 1952, as amended (8 U.S.C. 1182(f)), shall therefore lapse, and said proclamation shall terminate, effective immediately.

This determination shall be published in the Federal Register.

Dated: November 28, 2003.
Colin L. Powell,
Secretary of State, Department of State.

[FR Doc. 03-30614 Filed 12-10-03; 8:45 am]

BILLING CODE 4710-26-P